DEPARTMENT OF COMMERCE

National Oceanic and Atmospheric Administration

RIN 0648-XK08

New England Fishery Management Council; Public Meetings

AGENCY: National Marine Fisheries Service (NMFS), National Oceanic and Atmospheric Administration (NOAA), Commerce.

ACTION: Notice; public meetings.

SUMMARY: The New England Fishery Management Council's (Council) Groundfish Advisory Panel and Recreational Advisory Panel will hold two meetings to consider actions affecting New England fisheries in the exclusive economic zone (EEZ).

DATES: The meetings will be held on September 16 and 17, 2008. For specific dates and times, see SUPPLEMENTARY INFORMATION.

ADDRESSES: The meetings will be held at the Holiday Inn, One Newbury Street, Route 1, Peabody, MA 01960; telephone: (978) 535-4600.

Council address: New England Fishery Management Council, 50 Water Street, Mill #2, Newburyport, MA 01950.

FOR FURTHER INFORMATION CONTACT: Paul J. Howard, Executive Director, New England Fishery Management Council; telephone: (978) 465-0492.

SUPPLEMENTARY INFORMATION: The panel's schedule and agenda for the following two meetings are as follows:

Groundfish Advisory Panel Meeting - Tuesday, September 16, 2008, beginning at 9:30 a.m.

1. The Groundfish Advisory Panel will meet to develop recommendations for Amendment 16 to the Northeast Multispecies Fishery Management Plan. The Advisory Panel will review management options that are under development and current estimates of stock status. They will provide recommendations for the measures for the commercial fishery that will be considered by the Groundfish Oversight Committee and the full Council at a later date.

2. The Panel may make recommendations on any measure, such as days-at-sea limits, trip limits, closed areas, sector provisions, annual catch limits and accountability measures, etc.

3. Other business.

Recreational Advisory Panel Meeting - Wednesday, September 17, 2008, beginning at 9:30 a.m.

1. The Recreational Advisory Panel will meet to develop recommendations for Amendment 16 to the Northeast Multispecies Fishery Management Plan. The Advisory Panel will review management options that are under development and current estimates of stock status. They will provide recommendations for the measures for the recreational fishery that will be considered by the Groundfish Oversight Committee and the full Council at a later date.

2. The Panel may make recommendations on any measure, such as minimum fish sizes, possession (bag) limits, seasons, closed areas, annual catch limits and accountability measures, etc.

3. Other business.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Paul J. Howard (see ADDRESSES), at least 5 working days prior to the meeting date.

Authority: 16 U.S.C. 1801 et seq.

Dated: August 26, 2008.
Tracey L. Thompson,
Acting Director, Office of Sustainable Fisheries, National Marine Fisheries Service.

[FR Doc. E8-20066 Filed 8-28-08; 8:45 am]

BILLING CODE 3510-22-S